SURFACE TRANSPORTATION BOARD

[Docket No. FD 33763 (Sub-No. 1)]

Paducah & Louisville Railway, Inc.—Trackage Rights Exemption—CSX Transportation, Inc.

Paducah & Louisville Railway, Inc. (P&L), a wholly owned subsidiary of P&L Transportation, Inc., has filed a verified notice of exemption under 49 CFR 1180.2(d)(7) to allow P&L and CSX Transportation, Inc. (CSXT), to amend trackage rights to expand P&L's use of an approximately 27.7-mile CSXT rail line for the movement of coal between the Dotiki mines at or near milepost OMF 298.3 and a connection with P&L at or near milepost OHJ 274.8. In particular, traffic will move from the Dotiki mines to milepost OMB 275.9, then cross CSXT's Trident Interlocker at milepost OOH 276.5, then through CSXT's Madisonville Yard at Madisonville, Ky., at milepost OHC 275.0, then to point of switch on East Diamond Lead near milepost OHC 273.3, and then CSXT's Cimarron Spur to the connection with P&L near milepost OHJ 274.8 (Dotiki Line).

P&L has held restricted, overhead trackage rights over a portion of the Dotiki Line since 1999.¹ P&L states that, since that time, it has operated those trackage rights for the limited purpose of delivering coal to the Louisville Gas & Electric Cane Run plant in Louisville, Ky., and the Louisville Gas & Electric Mill Creek plant in Kosmosdale, Ky. (the LGE Move), via a P&L line that connects to the Dotiki Line. According to P&L, CSXT and P&L have recently agreed to amend the trackage rights to also allow P&L to move up to one million tons of coal annually over the Dotiki Line to a P&L line that reaches the Ohio and Tennessee Rivers for the export market at the Calvert City, Four Rivers, or GRT Transfer Terminals.

¹ See Paducah & Louisville Ry.—Trackage Rights Exemption—CSX Transp., Inc., FD 33763 (STB served June 23, 1999).

A redacted version of the trackage rights agreement between P&L and CSXT was filed with the verified notice of exemption.²

² On February 12, 2019, as required by 49 CFR 1180.6(a)(7)(ii), the unredacted version was filed under seal along with a motion for protective order. That motion is being addressed in a separate decision.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

The transaction may be consummated on or after March 6, 2019, the effective date of the exemption.

If the notice contains false or misleading information, the exemption is void ab initio. Petitions to revoke the exemption under 49 U.S.C. 10502(d) may be filed at any time. The filing of a petition to revoke will not automatically stay the effectiveness of the exemption. Stay petitions must be filed by February 27, 2019 (at least seven days before the exemption becomes effective).

An original and 10 copies of all pleadings, referring to Docket No. FD 33763 (Sub-No. 1), must be filed with the Surface Transportation Board, 395 E Street SW, Washington, DC 20423-0001. In addition, a copy of each pleading must be served on William A. Mullins, Baker & Miller PLLC, 2401 Pennsylvania Ave. NW, Suite 300, Washington, DC 20037.

Board decisions and notices are available at www.stb.gov.

Decided: February 14, 2019.
By the Board, Scott M. Zimmerman, Acting Director, Office of Proceedings.
Jeffrey Herzig,
Clearance Clerk.

[FR Doc. 2019-02835 Filed 2-19-19; 8:45 am]

BILLING CODE 4915-01-P